DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Children's Hospital Graduate Medical Education Program (OMB No. 0915-0247)

Public Law 106-129 amended the Public Health Service Act to provide for the support of graduate medical education (GME) in children's hospitals. The provision authorizes payments for direct and indirect expenses associated with operating approved GME programs. Section 340E(c)(1) of the PHS Act, as amended, states that the amount determined under this subsection for payments for direct medical expenses for a fiscal year is equal to the product of (a) the updated per resident amount as determined, and (b) the average number of FTE residents in the hospital's approved graduate medical residency training programs as determined under section 1886(h)(4) of the Social Security Act during the fiscal year. Section 340E(d)(2) requires the Secretary to determine the appropriate amount of indirect medical education for expenses associated with the treatment of more severely ill patients and the additional costs relating to teaching residents in such programs to a children's hospital by considering variations in case mix among children's hospitals, and the hospitals' number of FTE residents in approved training programs.

Administration of the Children's Hospital Graduate Medical Education Program relies on the reporting of the number of full-time equivalent residents in applicant children's hospital training programs to determine the amount of direct and indirect expense payments to participating children's hospitals. Indirect expense payments will also be derived from a formula that requires the reporting of case mix index information from participating children's hospitals.

Hospitals will be requested to submit such information in an annual application. The statute also requires reconciliation of the estimated numbers of residents with the actual number determined at the end of the fiscal year. Participating children's hospitals would be required to complete an adjusted report to correct such information on an annual basis.

Estimates of Annualized Hour Burden
Form name | Number of respondents | Responses per respondents | Total responses | Hrs. per response | Total hour burden | Wage rate ($/hr) | Total hour cost ($)
HRSA-99-1: | 54 | 1 | 54 | 99.9 | 5,395 | 45 | 242,775
(Annual) | 54 | 1 | 54 | 8 | 432 | 45 | 19,440
(Reconciliation)
HRSA-99-2 (IME) | 54 | 1 | 54 | 14 | 756 | 45 | 34,020
HRSA-99-4 Required GPRA Tables | 54 | 1 | 54 | 28 | 1,512 | 45 | 68,040
Total | 54 |  | 54 |  | 8,095 |  | 364,275

Written comments and recommendations concerning the proposed information collection should be sent within 30 days of this notice to: John Morrall, Human Resources and Housing Branch, Office of Management and Budget, 725 17th St., NW., New Executive Office Building, Room 10235, Washington, DC 20503.

Dated: October 31, 2000.
Jane M. Harrison,
Director, Division of Policy Review and Coordination.

[FR Doc. 00-28449 Filed 11-06-00; 8:45 am]

BILLING CODE 4160-15-P